DEPARTMENT OF COMMERCE

Census Bureau

Census Advisory Committees; Notice of Meeting

AGENCY: Bureau of the Census, Department of Commerce.

ACTION: Notice of public meeting.

SUMMARY: The Bureau of the Census (Census Bureau) is giving notice of a meeting of the National Advisory Committee on Racial, Ethnic and Other Populations (NAC). The NAC will address census policies, research and methodology, tests, operations, communications/messaging and other activities to ascertain needs and best practices to improve censuses, surveys, operations and programs. The NAC will meet in a plenary session on March 26-27, 2015. Last-minute changes to the schedule are possible, which could prevent giving advance public notice of schedule adjustments. Please visit the Census Advisory Committees Web site for the most current meeting agenda at: http://www.census.gov/cac/.

DATES: March 26-27, 2015. On March 26, the meeting will begin at approximately 8:30 a.m. and end at approximately 5:00 p.m. On March 27, the meeting will begin at approximately 8:30 a.m. and end at approximately 1:30 p.m.

ADDRESSES: The meeting will be held at the U.S. Census Bureau, 4600 Silver Hill Road, Suitland, Maryland 20746.

FOR FURTHER INFORMATION CONTACT: Kim Collier, Assistant Division Chief, Customer Liaison and Marketing Services Office, kimberly.l.collier@census.gov, Department of Commerce, U.S. Census Bureau, Room 8H185, 4600 Silver Hill Road, Washington, DC 20233, telephone 301-763-6590. For TTY callers, please use the Federal Relay Service 1-800-877-8339.

SUPPLEMENTARY INFORMATION: The NAC comprises up to thirty-two members. The Committee provides an organized and continuing channel of communication between race, ethnic, and other populations and the Census Bureau. The Committee advises the Director of the Census Bureau on the full range of economic, housing, demographic, socioeconomic, linguistic, technological, methodological, geographic, behavioral and operational variables affecting the cost, accuracy and implementation of Census Bureau programs and surveys, including the decennial census.

The Committee is established in accordance with the Federal Advisory Committee Act (Title 5, United States Code, Appendix 2, Section 10(a)(b)).

All meetings are open to the public. A brief period will be set aside at the meeting for public comment on March 27. However, individuals with extensive questions or statements must submit them in writing to: census.national.advisory.committee@census.gov (subject line `March 2015 NAC Meeting Public Comment”), or by letter submission to the Committee Liaison Officer, March 2015 NAC Meeting, Department of Commerce, U.S. Census Bureau, Room 8H185, 4600 Silver Hill Road, Washington, DC 20233.

If you plan to attend the meeting, please register by Monday, March 23. You may access the online registration from the following link: http://www.regonline.com/nac_mar2015_meeting. Seating is available to the public on a first-come, first-served basis.

These meetings are physically accessible to people with disabilities. Requests for sign language interpretation or other auxiliary aids should be directed to the Committee point of contact as soon as possible, preferably two weeks prior to the meeting.

Due to increased security and for access to the meeting, please call 301-763-9906 upon arrival at the Census Bureau on the day of the meeting. A photo ID must be presented in order to receive your visitor's badge. Visitors are not allowed beyond the first floor.

Dated: March 2, 2015.
John H. Thompson,
Director, Bureau of the Census.

[FR Doc. 2015-05279 Filed 3-6-15; 8:45 am]

BILLING CODE 3510-07P